SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than March 28, 2011. Individuals can obtain a copy of the collection instrument by calling the SSA Reports Clearance Officer at 410-965-8783 or by writing to the above e-mail address.

Request for Evidence from Doctor or Hospital—20 CFR 404 Subpart I and 20 CFR 416 Subpart P—0960-0722. Sections 223(d)(5) and 1614(a)(3)(H)(i) of the Social Security Act require claimants to furnish medical evidence of their disability when filing a disability claim. SSA uses Forms HA-66 and HA-67 to obtain medical evidence from sources (physicians, hospitals, etc.) who treated or evaluated the claimant. SSA uses the information to determine eligibility for benefits. The respondents are medical sources, doctors, and hospitals that evaluate the claimants.

Type of Request: Revision of an OMB-approved information collection.

Collection instrument | Number of respondents | Frequency of response | Number of responses | Average burden per response (minutes) | Estimated annual burden (hours)
HA-66 Paper Version | 3,060 | 22 | 67,320 | 15 | 16,830
HA-66 Electronic Version | 8,940 | 22 | 196,680 | 15 | 49,170
HA-67 Paper Version | 3,060 | 22 | 67,320 | 15 | 16,830
HA-66 Electronic Version | 8,940 | 22 | 196,680 | 15 | 49,170
Totals | 24,000 |  | 528,000 |  | 132,000

II. SSA has submitted the information collection listed below to OMB for clearance. Your comments on the information collection would be most useful if OMB and SSA receive them within 30 days from the date of this publication. To be sure we consider your comments, we must receive them no later than February 24, 2011. You can obtain a copy of the OMB clearance package by calling the SSA Reports Clearance Officer at 410-965-8783 or by writing to the above e-mail address.

Continuing Disability Review Report—20 CFR 404.1589, 416.989—0960-0072. SSA conducts periodic reviews to determine whether claimants continue to be disabled according to the Social Security Act and eligible for Title II or Title XVI payments. We obtain information, using SSA-454, on sources of medical treatment, participation in vocational rehabilitation programs, and attempts to work. We also ask individuals' opinions on whether their conditions have improved. SSA uses the information to make a continuing disability determination. The respondents are Title II and Title XVI disability recipients or their representatives.

Type of Request: Revision of an OMB-approved information collection.

Collection instrument | Number of respondents | Frequency of response | Average burden per response (minutes) | Total annual burden (hours)
SSA-454-BK (Paper version) | 1,500 | 1 | 60 | 1,500
Electronic Disability Collect System (EDCS) 454 | 1,500 | 1 | 59 | 1,475
SSA-454-ICR | 541,000 | 1 | 30 | 270,500
Abbreviated EDCS interview to supplement SSA-454-ICR | 541,000 |  | 25 | 225,417
Totals | 1,085,000 |  |  | 498,892

Dated: January 19, 2011.
Faye Lipsky,
Reports Clearance Officer, Center for Reports Clearance, Social Security Administration.

[FR Doc. 2011-1445 Filed 1-24-11; 8:45 am]

BILLING CODE 4191-02-P